FEDERAL RESERVE SYSTEM

Formations of, Acquisitions by, and Mergers of Bank Holding Companies; Correction

This notice corrects a notice (FR Doc. 2012-200028) published on pages 48983 and 48984 of the issue for Wednesday, August 15, 2012.

Under the Federal Reserve Bank of Minneapolis heading, the entry for Frandsen Financial Corporation, Arden Hills, Minnesota, is revised to read as follows:

A. Federal Reserve Bank of Minneapolis (Jacqueline G. King, Community Affairs Officer) 90 Hennepin Avenue, Minneapolis, Minnesota 55480-0291:

1. Frandsen Financial Corporation, Arden Hills, Minnesota; to acquire 100 percent of the voting shares of Clinton State Bank, Clinton, Minnesota.

Comments on this application must be received by September 7, 2012.

Dated: Board of Governors of the Federal Reserve System, August 22, 2012.
Robert deV. Frierson,
Secretary of the Board.

[FR Doc. 2012-21119 Filed 8-27-12; 8:45 am]

BILLING CODE 6210-01-P